DEPARTMENT OF COMMERCE

National Oceanic and Atmospheric Administration

Request for Information

SUMMARY: In furtherance of its implementation of the new U.S. Commercial Remote Sensing Policy authorized by the President on April 25, 2003, the National Oceanic and Atmospheric Administration (NOAA) is seeking public comment with regard to NOAA's licensing of commercial remote sensing satellite systems.

DATES: Submit comments on or before August 15, 2003.

ADDRESSES: Submit written comments to: NOAA/NESDIS International and Interagency Affairs Office, 1335 East-West Highway SSMC1, Room 7311, Silver Spring, MD 20910, attn: Timothy Stryker, Chief, Satellite Activities Branch.

SUPPLEMENTARY INFORMATION: The new U.S. Commercial Remote Sensing Policy establishes guidance and implementation actions for the policies contained therein with respect to commercial remote sensing space capabilities. A fact sheet regarding the new policy directive may be found on the web site of the White House Office of Science and Technology Policy, at http://www.ostp.gov/html/new.html. The fundamental goal of the policy is “to advance and protect U.S. national security and foreign policy interests by maintaining the nation's leadership in remote sensing space activities, and by sustaining and enhancing the U.S. remote sensing industry.”

As part of the implementation of the new policy, the National Oceanic and Atmospheric Administration (NOAA) is seeking public comment on all aspects of its licensing program for commercial remote sensing satellite systems. NOAA is seeking comments on topics such as:

• the current regulations on commercial remote sensing satellite systems;

• the current thresholds for commercial operations of U.S. systems;

• the U.S. Government's manner of conditioning operations of U.S. system operators;

• issues of foreign availability and competition; and,

• possible alternative approaches to address U.S. national security, foreign policy, and commercial interests.

For public reference, the Land Remote Sensing Policy Act of 1992, the Licensing of Private Land Remote-Sensing Space Systems (15 CFR part 960), and other relevant materials may be found in the “Reference Materials” section on the NOAA Commercial Remote Sensing Licensing Web site, at http://www.licensing.noaa.gov. Comments should be received by NOAA no later than August 15, 2003, by postal service to the address listed above.

FOR FURTHER INFORMATION CONTACT: Timothy Stryker, NOAA/NESDIS International and Interagency Affairs, 1335 East West Highway, Room 7311, Silver Spring, Maryland 20910; telephone (301) 713-2024 x.205, fax (301) 713-2032, e-mail Timothy.Stryker@noaa.gov, or Bernard Crawford at telephone (301) 713-2024 x204, e-mail Bernard.Crawford@noaa.gov.

Gregory W. Withee,
Assistant Administrator for Satellite and Information Services.

[FR Doc. 03-17808 Filed 7-14-03; 8:45 am]

BILLING CODE 3510-HR-P